SOCIAL SECURITY ADMINISTRATION

Privacy Act of 1974, as Amended; Proposed New Routine Use Disclosure

AGENCY: Social Security Administration (SSA).

ACTION: Proposed new routine use disclosure.

SUMMARY: In accordance with the Privacy Act (5 U.S.C. 552a(e)(11)), we are issuing public notice of our intent to establish a new routine use disclosure applicable to the SSA system of records entitled, Master Files of Social Security Number (SSN) Holders and SSN Applications, 60-0058. The proposed new routine use will allow SSA to verify the name, date of birth and the last four digits of the SSN for state voter registration purposes under section 205(r)(8) of the Social Security Act, as amended by section 303 of the Help America Vote Act (HAVA), Public Law (Pub. L.) 107-252. The proposed new routine use disclosure is discussed in the Supplementary Information section below. We invite public comment on this proposal.

DATES: We filed a report of the proposed new routine use disclosure with the Chairman of the Senate Committee on Governmental Affairs, the Chairman of the House Government Reform Committee, and the Director, Office of Information and Regulatory Affairs, Office of Management and Budget (OMB) on July 28, 2004. The proposed routine use will become effective on September 5, 2004, unless we receive comments warranting it not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Ms. Carlotta B. Davis, Social Insurance Specialist, Disclosure Policy Team, Office of Public Disclosure, Office of the General Counsel, Social Security Administration, in Room 3-C-2 Operations Building, 6401 Security Boulevard, Baltimore, Maryland 21235-6401, e-mail address at Carlotta.Davis@ssa.gov or by telephone at (410) 965-8028.

SUPPLEMENTARY INFORMATION:

I. Background and Purpose of the Proposed New Routine Use Disclosure

A. General Background

On October 29, 2002, the President signed into law Public Law 107-252, the Help America Vote Act (HAVA) of 2002. Section 303 of HAVA amended section 205(r) of the Social Security Act by adding paragraph (8) which requires the Commissioner of Social Security to enter into agreements with the states and designated territories to assist in verifying information in the voter registration process for elections for federal office. More specifically, this provision of law requires the Commissioner of Social Security to enter into agreement with state officials for the purpose of verifying the following information about voter registrant applicants for whom the last four digits of a SSN are provided instead of a driver's license number:

• Name (including the first name and any family forename or surname),

• Date of birth (DOB) (including the month, day and year), and

• The last four digits of the Social Security number (SSN)).

The verification process will involve the American Association of Motor Vehicle Administrators (AAMVA), State motor vehicle agencies (MVA), and SSA. Under this process, State MVAs will input voter registrants' names, dates of birth, and the last four digits of their SSNs into AAMVA's AAMVAnet system, which in turn will forward the information to SSA for matching with SSA records. After matching the input data with data in SSA records, SSA will return one response code indicating results of the verification, including whether death information is recorded in SSA records, as appropriate.

B. Proposed New Routine Use Disclosure of Data Maintained in the Master Files of Social Security Number (SSN) Holders and SSN Applications, 60-0058

To implement the provisions of section 205(r)(8) of the Social Security Act (42 U.S.C. 405(r)(8)), SSA must comply with the Privacy Act (5 U.S.C. 552a(b)(3)). To this end, we are proposing to establish the following new routine use providing for disclosure:

To State and Territory Motor Vehicle Administration officials (or agents or contractors on their behalf) and State and Territory chief election officials to verify the accuracy of information provided by the State agency with respect to applications for voter registration, for whom the last four digits of the Social Security number are provided instead of a driver's license number.

The proposed new routine use will appear as routine use numbered 41 in the Master Files of Social Security Number (SSN) Holders and SSN Applications, 60-0058 system of records. We are not republishing the notice of this system of records in its entirety at this time. This system of records was last published in its entirety in the Federal Register at 63 F.R. 14165, 03/24/98.

II. Compatibility of Proposed Routine Use

The Privacy Act (5 U.S.C. 552a(a)(7) and (b)(3)) and SSA's disclosure regulation (20 CFR part 401) permit us to disclose information under a published routine use for a purpose that is compatible with the purpose for which we collected the information. Section 401.150(c) of the regulations permits us to disclose information under a routine use where necessary to carry out SSA programs or assist other agencies in administering similar programs. Section 401.120 of the regulations provides that we will disclose information if required by law. Section 205(r)(8) of the Social Security Act requires the Commissioner of Social Security to verify applicable information to be used by states and territories in their voter registration processes for elections held for federal office. Thus, the proposed routine use is appropriate and meets the relevant statutory and regulatory criteria.

III. Effect of the Proposed Routine Use Disclosure on the Rights of Individuals

The proposed routine use will allow SSA to verify the accuracy of information provided by States and territories with respect to applications for voter registration as required by section 205(r)(8) of the Social Security Act. Section 205(r)(8) of the Social Security Act provides that information provided by the Commissioner of Social Security under agreements with the states and territories is confidential and use of the information is limited to the purpose of verifying voter registrants' information as provided in the agreements. This provision also provides that any officer or employee or former officer or employee of a State, or any officer or employee or former officer or employee of a contractor of a State who, without written authority of the Commissioner, publishes or communicates any information in the individual's possession by reason of such employment or position as such an officer, shall be guilty of a felony and upon conviction shall be fined or imprisoned, or both, as described in section 208 of the Social Security Act. Additionally, we will adhere to all applicable provisions of the Privacy Act when disclosing information. Thus, we do not anticipate that the proposed new routine use will have any unwarranted adverse effect on the rights of individuals about whom data will be disclosed.

Dated: July 28, 2004.
Jo Anne B. Barnhart,
Commissioner.

[FR Doc. 04-17950 Filed 8-5-04; 8:45 am]

BILLING CODE 4191-02-P